ENVIRONMENTAL PROTECTION AGENCY

40 CFR Part 52

[EPA-R01-OAR-2023-0377; FRL-11783-03-R1]

Air Plan Approval; Connecticut; Source Monitoring, Record Keeping and Reporting; Correction

AGENCY: Environmental Protection Agency (EPA).

ACTION: Final rule; correction.

SUMMARY: The Environmental Protection Agency (EPA) is correcting a final rule that was published in the Federal Register on July 8, 2024 which will become effective on August 7, 2024. The final rule approved State Implementation Plan (SIP) revisions submitted by the State of Connecticut which addresses source monitoring in Connecticut. The principal revision is replacement of Regulations of Connecticut State Agencies (RCSA) section 22a-174-4 (source monitoring, record keeping and reporting) with a new regulation section 22a-174-4a, also called “source monitoring, record keeping and reporting,” in the Connecticut SIP. This source monitoring SIP revision provides monitoring, recordkeeping and reporting requirements to ensure that certain sources comply with applicable emissions limitations. This correction does not change any final action taken by EPA on July 8, 2024; this action adds the missing “Words of Issuance” sentence which connects the preamble to the regulatory text.

DATES: Effective on August 7, 2024.

ADDRESSES: EPA has established a docket for this action under Docket Identification No. EPA-R01-OAR-2023-0377. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Ariel Garcia, Air Quality Branch, U.S. Environmental Protection Agency, EPA Region 1, 5 Post Office Square—Suite 100, (Mail code 05-2), Boston, MA 02109—3912, tel. (617) 918-1660, email garcia.ariel@epa.gov.

SUPPLEMENTARY INFORMATION: EPA is making a correction for an inadvertent error in the regulatory “Words of Issuance” for the final rule by adding the missing sentence “For the reasons stated in the preamble, EPA amends part 52 of chapter I, title 40 of the Code of Federal Regulations as follows:”, to read as follows.

EPA has determined that there is good cause for making this rule final without prior proposal and opportunity for comment because we are adding language that was accidentally omitted. Thus, notice and public procedure are unnecessary. We find that this constitutes good cause under section 553(b)(B) of the Administrative Procedure Act, 5 U.S.C. 553(b)(B).

Correction

In FR doc. 2024-14620, beginning on page 55888 in the Federal Register of Monday, July 8, 2024, the following correction is made:

On page 55890, the second column, immediately before “PART 52—APPROVAL AND PROMULGATION OF IMPLEMENTATION PLANS” add the words of issuance to read as follows:

For the reasons stated in the preamble, EPA amends part 52 of chapter I, title 40 of the Code of Federal Regulations as follows:

Dated: July 12, 2024.
David Cash,
Regional Administrator, EPA Region 1.

[FR Doc. 2024-15820 Filed 7-22-24; 8:45 am]

BILLING CODE 6560-50-P